FEDERAL COMMUNICATIONS COMMISSION

Notice of Public Information Collection(s) Being Reviewed by the Federal Communications Commission, Comments Requested

September 7, 2006.

SUMMARY: The Federal Communications Commission, as part of its continuing effort to reduce paperwork burden, invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 13, 2006. If you anticipate that you will be submitting comments, but find it difficult to do so within the period of time allowed by this notice, you should advise the contact listed below as soon as possible.

ADDRESSES: You may submit your Paperwork Reduction Act (PRA) comments by e-mail or U.S. postal mail. To submit you comments by e-mail send them to: PRA@fcc.gov. To submit your comments by U.S. mail, mark it to the attention of Leslie F. Smith, Federal Communications Commission, 445 12th Street, SW., Room 1-C216, Washington, DC 20554.

FOR FURTHER INFORMATION CONTACT: For additional information about the information collection(s) send an e-mail to PRA@fcc.gov or contact Leslie F. Smith at 202-418-0217.

SUPPLEMENTARY INFORMATION:

OMB Control Number: 3060-0874

Title: Consumer Complaint Form and Obscene, Profane, and Indecent Complaint Form.

Form Number(s): FCC Form 475 and FCC Form 475-B.

Type of Review: Revision of a currently approved collection.

Respondents: Individuals or households; Business or other for-profit entities; Not-for-profit institutions; Federal Government; State, local or tribal government.

Number of Respondents: 1,330,104 (FCC Form 475: 58,772; FCC Form 475-B: 1,271,332).

Estimated Time per Response: 30 minutes per form.

Frequency of Response: On occasion reporting requirement.

Total Annual Burden: 665,052 (FCC Form 475: 29,386 hours; FCC Form 475-B: 635,666 hours).

Total Annual Cost: None.

Privacy Impact Assessment: Yes.

Needs and Use: Consumers use FCC Form 475, Consumer Complaint Form, to delineate precisely the issue(s) concerning the policies and practices of common carriers that they are disputing. FCC Form 475 asks the complainants to provide contact information, including their address, telephone number, and e-mail address, and to briefly describe the complaint, including the common carrier against whom the complaint is lodged, the consumer's account number(s), the date(s) on which the incident(s) occurred, and the type of resolution the consumer is seeking. The Commission uses the information to resolve the consumer's informal complaint(s).

The information on FCC Form 475 may also be used to assess the practices of common carriers as part of any investigative work performed by Federal and State law enforcement agencies to monitor common carrier practices and to promote compliance with Federal and State requirements. The information may ultimately become the foundation for FCC enforcement actions and/or rulemaking proceedings, as appropriate. The Commission now intends to create a new, separate FCC form, described below, that will be used to collect complaint data regarding junk faxes, unsolicited e-mail messages, and telemarketing calls. Thus, the existing Form 475 will be amended slightly to reflect the fact that it will no longer be used for these types of complaints.

FCC Form 475-B, Obscene, Profane, and Indecent Complaint Form, is used by consumers to lay out precisely their complaint(s) and issue(s) concerning the practices of the telecommunications entities, which consumers believe may have aired obscene, profane, and/or indecent programming. FCC Form 475-B will remain unchanged.

OMB Control Number: 3060-1088

Title: Rules and Regulations Implementing the Telephone Consumer Protection Act (TCPA) of 1991, Report and Order and Third Order on Reconsideration, CG Docket No. 05-338, FCC 06-42.

Form Number: FCC Form 1088.

Type of Review: Revision of a currently approved collection.

Respondents: Individuals or households; Business or other for-profit entities; Not-for-profit institutions.

Number of Respondents: 5,000,000 (4 million facsimile advertisement senders + 1 million complainants, 100,000 of which will file complaints using proposed new form).

Estimated Time per Response: 15 minutes.

Frequency of Response: Annually, monthly, and on occasion reporting requirements; Recordkeeping; Third party disclosure.

Total Annual Burden: 13,130,000 hours (13,080,000 hours for fax advertisement senders + 50,000 hours for complainants using proposed new form).

Total Annual Cost: $60,000,000.

Privacy Impact Assessment: Yes.

Needs and Uses: On April 5, 2006, the Commission adopted a Report and Order and Third Order on Reconsideration, In the Matter of Rules and Regulations Implementing the Telephone Consumer Protection Act of 1991; Junk Fax Prevention Act of 2005, CG Docket Nos. 02-278 and 05-338, FCC 06-42, which modified the Commission's facsimile advertising rules to implement the Junk Fax Prevention Act. The Report and Order and Third Order on Reconsideration contains information collection requirements: (1) Opt-out Notice and Do-Not-Fax Requests Recordkeeping—senders of unsolicited facsimile advertisements to include a notice on the first page that informs the recipient of the ability and means to request that they not receive future unsolicited facsimile advertisements from the sender; (2) Established Business Relationship Recordkeeping—the Junk Fax Prevention Act provides that the sender, e.g., a person, business, or a nonprofit/institution, is prohibited from faxing an unsolicited advertisement to a facsimile machine unless the sender has an “established business relationship” (EBR) with the recipient; (3) Facsimile Number Recordkeeping in which the Junk Fax Prevention Act provides that an EBR alone does not entitle a sender to fax an advertisement to an individual or business. The fax number must also be provided voluntarily by the recipient; and (4) Express Invitation or Permission Recordkeeping where, in the absence of an EBR, the sender must obtain the prior express invitation or permission from the consumer before sending the facsimile advertisement. Section 227 of the Communications Act of 1934, as amended, and the FCC's parallel rules restrict various telemarketing and advertising activities. The new Junk Fax/Telemarketing Form, FCC Form 1088, is designed specifically for complaints that involve: (1) Junk faxes, (2) telemarketing (including do-not-call violations), and (3) other related issues such as prerecorded messages, automatic telephone dialing systems, and unsolicited commercial e-mail messages to wireless telecommunications devices (cell phones, pagers). Upon the adoption of the TCPA rules, approximately 80,000 respondents utilized the Consumer Complaint Form 475 to file general complaints resulting in a total hourly annual burden of 40,000 hours. Based on these figures, the Commission estimates that 100,000 respondents would use the proposed new form, requiring 50,000 hours annually.

FCC Form 1088 will allow the Commission to collect detailed information from consumers concerning possible violations of the Communications Act and the FCC's fax and telemarketing rules, which will enable the Commission to investigate rule violations more efficiently and to initiate enforcement actions against violators, as appropriate. By collecting their complaints and related information in a single, comprehensive template, the form will provide a standardized way for consumers to file complaints, reducing or eliminating the need for further documentation or questions from FCC investigators to determine whether violations have occurred. This ensures that consumers can present their complaints in a way that maximizes the FCC's ability to take enforcement actions against violators, protecting complainants and other consumers from unlawful telemarketing and faxing which is intrusive, uninvited, and possibly costly. Furthermore, the form's format avoids the need for complainants to compose narratives that describe unwanted telemarketing or faxing, and instead permits complainants to answer questions, principally by simply selecting options presented on the form, which should reduce the time to file a complaint. The form will allow the Commission to gather and to review this information more efficiently. The information the form collects may ultimately become the foundation for enforcement actions and/or rulemaking proceedings, as appropriate.

FCC Form 1088 asks the complainant's contact information, including name, address, telephone number and e-mail address; then presents a “gateway” question to determine the general topic of the complaint: (1) A fax; or (2) a call or message to a residential telephone, business telephone, emergency telephone or patient telephone, wireless telecommunications device, or any service for which the called party is charged. The form asks additional questions geared to the specific type of incident reported. The form poses certain mandatory threshold questions that must be answered for the Commission to determine whether a violation has occurred. It also presents optional questions for complainants who wish to provide the Commission with more detailed information that a complainant believes may assist the Commission in investigating the complaint. In short, complainants will only encounter those questions directly applicable to their self-selected issues, and only be required to answer a limited number of questions (typically, not more than 10) necessary to establish whether a violation has, in fact, occurred. No complainant will have to answer all questions. Finally, a complainant may attach documentation attesting to the accuracy of the information provided to the Commission. The Commission needs this documentation for any possible enforcement actions. The Commission believes the new form to be a logical extension of its Junk Fax and Telemarketing rulemaking efforts.

Federal Communications Commission.
Marlene H. Dortch,
Secretary.

[FR Doc. E6-15194 Filed 9-11-06; 8:45 am]

BILLING CODE 6712-01-P